DEPARTMENT OF ENERGY

Federal Energy Regulatory Commission

Combined Notice of Filings #1

Take notice that the Commission received the following exempt wholesale generator filings:

Docket Numbers: EG23-144-000.

Applicants: Clearwater Wind II, LLC.

Description: Clearwater Wind II, LLC submits Notice of Self-Certification of Exempt Wholesale Generator Status.

Filed Date: 5/5/23.

Accession Number: 20230505-5056.

Comment Date: 5 p.m. ET 5/26/23.

Docket Numbers: EG23-145-000.

Applicants: Johnson County Power, LLC.

Description: Johnson County Power, LLC submits Notice of Self-Certification of Exempt Wholesale Generator Status.

Filed Date:5/5/23.

Accession Number: 20230505-5066.

Comment Date: 5 p.m. ET 5/26/23.

Docket Numbers: EG23-146-000.

Applicants: RW Miller Power, LLC.

Description: RW Miller Power, LLC submits Notice of Self-Certification of Exempt Wholesale Generator Status.

Filed Date: 5/5/23.

Accession Number: 20230505-5067.

Comment Date: 5 p.m. ET 5/26/23.

Docket Numbers: EG23-147-000.

Applicants: Jack County Power, LLC

Description: Jack County Power, LLC submits Notice of Self-Certification of Exempt Wholesale Generator Status.

Filed Date: 5/5/23.

Accession Number: 20230505-5069.

Comment Date: 5 p.m. ET 5/26/23.

Take notice that the Commission received the following electric rate filings:

Docket Numbers: ER10-2042-044; ER10-1862-038; ER10-1873-018; ER10-1875-018; ER10-1876-019; ER10-1878-018; ER10-1883-018; ER10-1884-018; ER10-1885-018; ER10-1888-018; ER10-1893-038; ER10-1934-038; ER10-1938-039; ER10-1941-018; ER10-1942-036; ER10-1947-019; ER10-2985-042; ER10-3049-043; ER10-3051-043; ER11-4369-023; ER12-1987-016; ER12-2261-017; ER12-2645-011; ER16-2218-024; ER17-696-024; ER19-1127-008; ER20-1699-006; ER23-944-002.

Applicants: Calpine Community Energy, LLC, Johanna Energy Center, LLC, Calpine King City Cogen, LLC, Calpine Energy Solutions, LLC, North American Power Business, LLC, Pastoria Energy Facility L.L.C., Russell City Energy Company, LLC, O.L.S. Energy-Agnews, Inc., North American Power and Gas, LLC, Champion Energy, LLC, Champion Energy Services, LLC, Champion Energy Marketing LLC, Otay Mesa Energy Center, LLC, Calpine Construction Finance Co., L.P., Calpine Gilroy Cogen, L.P., Calpine Power America—CA, LLC, CES Marketing IX, LLC, CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC, Power Contract Financing, L.L.C., Calpine Energy Services, L.P.

Description: Notice of Change in Status of Calpine Energy Services, L.P., et al.

Filed Date: 5/1/23.

Accession Number: 20230501-5586.

Comment Date: 5 p.m. ET 5/22/23.

Docket Numbers: ER10-2294-008; ER11-3808-007; ER11-3980-007; ER13-413-008; ER13-534-007; ER13-2103-005; ER13-2414-004; ER15-2330-004; ER16-131-004; ER20-2696-001; ER17-737-001; ER17-2471-005; ER17-2472-005; ER18-301-004; ER18-664-005; ER22-645-001; ER18-2214-002; ER18-2216-002; ER18-2435-004; ER19-1047-003; ER20-2977-001; ER22-1882-002; ER22-2178-002; ER22-2799-001; ER22-2800-001; ER22-2801-001.

Applicants: VESI 25 LLC, VESI 24 LLC, VESI 21 LLC, ORNI 50 LLC, VESI 10 LLC, ORNI 34 LLC, VESIVEC LLC, ORNI 41 LLC, Plumsted 537 LLC, Stryker 22, LLC, Ormat Dixie Valley LLC, Steamboat Hills LLC, Ormesa LLC, ONGP LLC, ORNI 43 LLC, Viridity Energy Solutions Inc., VESI Pomona Energy Storage, Inc., Heber Geothermal Company LLC, ORNI 37 LLC, Mammoth Three LLC, ORNI 47 LLC, Mammoth One LLC, USG Oregon LLC, ORNI 14 LLC, ORNI 39 LLC, ORNI 18 LLC.

Description: Notice of Change in Status of ORNI 18 LLC, et al.

Filed Date: 5/2/23.

Accession Number: 20230502-5280.

Comment Date: 5 p.m. ET 5/23/23.

Docket Numbers: ER10-2381-013; ER11-2206-014; ER11-2207-014; ER11-2209-014; ER11-2210-014; ER11-2211-014; ER11-2855-028; ER11-2856-028; ER11-2857-028; ER11-3727-020; ER12-21-026; ER12-1711-020; ER13-1150-012; ER13-1151-012; ER13-1991-027; ER13-1992-027; ER18-814-005; ER19-672-005; ER19-843-005; ER19-1061-005; ER19-1063-005; ER19-1200-008; ER20-486-005.

Applicants: Golden Fields Solar III, LLC, Clearway Power Marketing LLC, Solar Borrego I LLC, Solar Alpine LLC, Solar Blythe LLC, Marsh Landing LLC, Carlsbad Energy Center LLC, Desert Sunlight 300, LLC, Desert Sunlight 300, LLC, Alta Wind XI, LLC, Alta Wind X, LLC, High Plains Ranch II, LLC, Agua Caliente Solar, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC.

Description: Supplement to March 3, 2023, Notice of Change in Status of Agua Caliente Solar, LLC, et al.

Filed Date: 5/2/23.

Accession Number: 20230502-5279.

Comment Date: 5 p.m. ET 5/23/23.

Docket Numbers: ER21-2382-000.

Applicants: Shell Energy North America (US), L.P.

Description: Refund Report: Refund Report to be effective N/A.

Filed Date: 5/5/23.

Accession Number: 20230505-5182.

Comment Date: 5 p.m. ET 5/26/23.

Docket Numbers: ER23-643-002.

Applicants: PJM Interconnection, L.L.C.

Description: Tariff Amendment: Amendment to ISA, SA No. 5596; Queue No. AD1-020 to be effective 2/15/2023.

Filed Date: 5/5/23

Accession Number: 20230505-5136

Comment Date: 5 p.m. ET 5/26/23.

Docket Numbers: ER23-1832-000.

Applicants: Homer City Generation, L.P.

Description: Tariff Amendment: Notice of Cancellation of Reactive Service Tariff to be effective 12/31/9998.

Filed Date: 5/4/23.

Accession Number: 20230504-5129

Comment Date: 5 p.m. ET 5/25/23.

Docket Numbers: ER23-1833-000.

Applicants: Bio Energy (Ohio II), LLC.

Description: Tariff Amendment: Bio Energy (Ohio II), LLC Notice of MBR Cancellation to be effective 5/4/2023.

Filed Date: 5/4/23.

Accession Number: 20230504-5130.

Comment Date: 5 p.m. ET 5/25/23.

Docket Numbers: ER23-1834-000.

Applicants: Duke Energy Carolinas, LLC.

Description: § 205(d) Rate Filing: DEC-NCEMC NITSA SA No. 210 (2023) to be effective 5/1/2023.

Filed Date: 5/4/23.

Accession Number: 20230504-5151.

Comment Date: 5 p.m. ET 5/25/23.

Docket Numbers: ER23-1835-000.

Applicants: PJM Interconnection, L.L.C.

Description: § 205(d) Rate Filing: Original ISA, SA No. 6899 and CSA, SA No. 6900; Queue No. AD2-091 to be effective 4/5/2023.

Filed Date: 5/5/23.

Accession Number: 20230505-5078.

Comment Date: 5 p.m. ET 5/26/23.

Docket Numbers: ER23-1836-000.

Applicants: Alabama Power Company, Georgia Power Company, Mississippi Power Company.

Description: § 205(d) Rate Filing: Alabama Power Company submits tariff filing per 35.13(a)(2)(iii: Evergreen PV1 LGIA Filing to be effective 4/21/2023.

Filed Date: 5/5/23.

Accession Number: 20230505-5115.

Comment Date: 5 p.m. ET 5/26/23.

Docket Numbers: ER23-1837-000

Applicants: PacifiCorp

Description: § 205(d) Rate Filing: Provisional Large Generator Interconnection Agreement to be effective 5/6/2023.

Filed Date: 5/5/23.

Accession Number: 20230505-5124.

Comment Date: 5 p.m. ET 5/26/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2023.
Kimberly D. Bose,
Secretary.

[FR Doc. 2023-10066 Filed 5-10-23; 8:45 am]

BILLING CODE 6717-01-P